DEPARTMENT OF AGRICULTURE

Forest Service

National Urban and Community Forestry Advisory Council

AGENCY: Forest Service, Agriculture (USDA).

ACTION: Notice of meeting.

SUMMARY: The National Urban and Community Forestry Advisory Council will hold a virtual public meeting according to the details shown below. The committee is authorized under the Cooperative Forestry Assistance Act (the Act) and operates in compliance with the Federal Advisory Committee Act. The purpose of the committee is to develop a national urban and community forestry ten-year action plan in accordance with the Act, evaluate and report annually on the implementation of that plan to the Secretary, and develop criteria for and submit recommendations to the Forest Service's National Urban and Community Forestry Challenge Cost-share Grant Program as required by the Act.

DATES: A virtual meeting will be held on May 16, 2025, 11 a.m. to 3 p.m. eastern daylight time.

Written and Oral Comments: Anyone wishing to provide virtual oral comments must pre-register by 11:59 p.m. eastern daylight time on May 12, 2025. Written public comments will be accepted by 11:59 p.m. eastern daylight time on May 12, 2025. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held virtually from the Forest Service Headquarters Office in Washington, DC. The public may join via the Zoom Meeting link: https://us02web.zoom.us/j/89063623098?pwd=Hg5pUnwy3fdxlbwkKlaolsTbc1LoMA.1 Meeting ID: 890 6362 3098, Passcode: 452230 (Pacific 8 a.m., mountain 9 a.m., central 10 a.m., eastern 11 a.m.). Committee information and meeting details can be found at the following website: https://www.fs.usda.gov/managing-land/urban-forests/ucf/nucfac or by contacting the person listed under FOR FURTHER INFORMATION CONTACT.

Written Comments: Written comments must be sent by email to nancy.stremple@usda.gov or via mail (postmarked) to Nancy Stremple, 201 14th Street SW, Sidney Yates Federal Building 3SC-01B, Washington, DC 20024. The Forest Service strongly prefers comments be submitted electronically.

Oral Comments: Persons or organizations wishing to make oral comments must pre-register by 11:59 p.m. eastern daylight time, May 12, 2025, and speakers can only register for one speaking slot. Oral comments must be sent by email to nancy.stremple@usda.gov or via mail (postmarked) to Nancy Stremple, 201 14th Street SW, Sidney Yates Federal Building 3SC-01B, Washington, DC 20024.

FOR FURTHER INFORMATION CONTACT: Nancy Stremple, Designated Federal Officer, by phone at 202-205-7829 or by email at nancy.stremple@usda.gov.

SUPPLEMENTARY INFORMATION: The purpose of the meeting is to:

1. Introduce National Urban and Community Forestry Council members and guests.

2. Discuss the National Ten-Year Action Plan Five-Year Benchmark Accomplishment Report;

3. Preparation for the Next Ten-Year Action Plan (2027-2037);

4. Approve meeting minutes;

5. Schedule the next meeting; and

6. Other.

The agenda will include time for individuals to make oral statements of three minutes or less. Individuals wishing to make an oral statement should make a request in writing at least three days prior to the meeting date to be scheduled on the agenda. Written comments may be submitted to the Forest Service up to 5 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: April 16, 2025.
Cikena Reid,
USDA Committee Management Officer.

[FR Doc. 2025-07056 Filed 4-30-25; 8:45 am]

BILLING CODE 3411-15-P